DEPARTMENT OF ENERGY

Federal Energy Regulatory Commission

Combined Notice of Filings #1

Take notice that the Commission received the following electric corporate filings:

Docket Numbers: EC15-76-000.

Applicants: PowerMinn 9090, LLC, Fibrominn LLC, Benson Power, LLC, CPV Biomass Holdings, LLC.

Description: Application for Authorization for Disposition of Jurisdictional Facilities and Request for Expedited Action of PowerMinn 9090, LLC, et. al.

Filed Date: 2/18/15.

Accession Number: 20150218-5260.

Comments Due: 5 p.m. ET 3/11/15.

Take notice that the Commission received the following exempt wholesale generator filings:

Docket Numbers: EG15-50-000.

Applicants: Prairie Breeze Wind Energy LLC.

Description: Notice of Self-Certification of Exempt Wholesale Generator Status of Prairie Breeze Wind Energy LLC.

Filed Date: 2/18/15.

Accession Number: 20150218-5106.

Comments Due: 5 p.m. ET 3/11/15.

Docket Numbers: EG15-51-000.

Applicants: Prairie Breeze Wind Energy II LLC.

Description: Notice of Self-Certification of Exempt Wholesale Generator Status of Prairie Breeze Wind Energy II LLC.

Filed Date: 2/18/15.

Accession Number: 20150218-5109.

Comments Due: 5 p.m. ET 3/11/15.

Take notice that the Commission received the following electric rate filings:

Docket Numbers: ER13-99-004.

Applicants: Puget Sound Energy, Inc.

Description: Compliance filing per 35: OATT Order No. 1000 Compliance Filing to be effective N/A.

Filed Date: 2/18/15.

Accession Number: 20150218-5203.

Comments Due: 5 p.m. ET 3/11/15.

Docket Numbers: ER13-1447-002.

Applicants: Public Service Company of New Mexico.

Description: Compliance filing per 35: PNM's Order No. 1000 Interregional Compliance Filing of WestConnect Parties to be effective N/A.

Filed Date: 2/18/15.

Accession Number: 20150218-5130.

Comments Due: 5 p.m. ET 3/11/15.

Docket Numbers: ER13-1450-002.

Applicants: Arizona Public Service Company.

Description: Compliance filing per 35: Western Interconnection—Order No. 1000 Interregional Compliance Filing to be effective N/A.

Filed Date: 2/18/15.

Accession Number: 20150218-5125.

Comments Due: 5 p.m. ET 3/11/15.

Docket Numbers: ER13-1450-002.

Applicants: Arizona Public Service Company.

Description: Report Filing: Western Interconnection—Order No. 1000 Interregional Compliance Filing to be effective N/A.

Filed Date: 2/18/15.

Accession Number: 20150218-5134.

Comments Due: 5 p.m. ET 3/11/15.

Docket Numbers: ER13-1461-002.

Applicants: Tucson Electric Power Company.

Description: Compliance filing per 35: Order No. 1000 Interregional Compliance Filing to be effective N/A.

Filed Date: 2/18/15.

Accession Number: 20150218-5179.

Comments Due: 5 p.m. ET 3/11/15.

Docket Numbers: ER13-1462-002.

Applicants: UNS Electric, Inc.

Description: Compliance filing per 35: Order No. 1000 Interregional Compliance Filing to be effective N/A.

Filed Date: 2/18/15.

Accession Number: 20150218-5180.

Comments Due: 5 p.m. ET 3/11/15.

Docket Numbers: ER13-1465-002.

Applicants: El Paso Electric Company.

Description: Compliance filing per 35: Compliance Filing with FERC December 18, 2014 Interregional Order to be effective N/A.

Filed Date: 2/18/15.

Accession Number: 20150218-5142.

Comments Due: 5 p.m. ET 3/11/15.

Docket Numbers: ER13-1466-002.

Applicants: NV Energy, Inc.

Description: Compliance filing per 35: OATT Order 1000 Interregional Compliance December 18, 2014 Order to be effective N/A.

Filed Date: 2/18/15.

Accession Number: 20150218-5201.

Comments Due: 5 p.m. ET 3/11/15.

Docket Numbers: ER13-1469-002.

Applicants: Public Service Company of Colorado.

Description: Compliance filing per 35: 2015-2-18_PSCo_InterRegional Comp Filing to be effective N/A.

Filed Date: 2/18/15.

Accession Number: 20150218-5013.

Comments Due: 5 p.m. ET 3/11/15.

Docket Numbers: ER13-1470-002.

Applicants: California Independent System Operator Corporation.

Description: Compliance filing per 35: 2015-02-Interregional Second Compliance to be effective 10/1/2015.

Filed Date: 2/18/15.

Accession Number: 20150218-5135.

Comments Due: 5 p.m. ET 3/11/15.

Docket Numbers: ER13-1473-002.

Applicants: PacifiCorp.

Description: Compliance filing per 35: OATT Order 1000 Second Interregional Compliance Filing to be effective 10/1/2013.

Filed Date: 2/18/15.

Accession Number: 20150218-5182.

Comments Due: 5 p.m. ET 3/11/15.

Docket Numbers: ER13-1730-002.

Applicants: Avista Corporation.

Description: Compliance filing per 35: Avista Corp OATT Order 1000 Compliance Filing to be effective 1/1/2015.

Filed Date: 2/18/15.

Accession Number: 20150218-5096.

Comments Due: 5 p.m. ET 3/11/15.

Docket Numbers: ER14-346-003.

Applicants: MATL LLP.

Description: Compliance filing per 35: Compliance with ER14-346 to be effective N/A.

Filed Date: 2/18/15.

Accession Number: 20150218-5141.

Comments Due: 5 p.m. ET 3/11/15.

Docket Numbers: ER14-2707-003.

Applicants: Mammoth Plains Wind Project, LLC.

Description: Supplement to January 13, 2015 Notice of Non-Material Change in Status of Mammoth Plains Wind Project, LLC.

Filed Date: 2/13/15.

Accession Number: 20150213-5160.

Comments Due: 5 p.m. ET 3/6/15.

Docket Numbers: ER14-2868-002.

Applicants: Portland General Electric Company.

Description: Tariff Amendment per 35.17(b): 7th Amend Boardman Agreement Deficiency Response 2 to be effective 11/1/2014.

Filed Date: 2/18/15.

Accession Number: 20150217-5081.

Comments Due: 5 p.m. ET 3/10/15.

Docket Numbers: ER15-191-001.

Applicants: Duke Energy Progress, Inc.

Description: Compliance filing per 35: Compliance Filing ER15-191, ER15-74, ER13-1313, ER15-345 to be effective 1/1/2014.

Filed Date: 2/18/15.

Accession Number: 20150218-5006.

Comments Due: 5 p.m. ET 3/11/15.

Docket Numbers: ER15-807-001.

Applicants: PJM Interconnection, L.L.C., Duke Energy Ohio, Inc.

Description: Tariff Amendment per 35.17(b): Duke submits Amendment to Revised SA No. 3140 Filing to be effective 11/10/2014.

Filed Date: 2/18/15.

Accession Number: 20150218-5054.

Comments Due: 5 p.m. ET 3/11/15.

Docket Numbers: ER15-916-000.

Applicants: Sierra Solar Greenworks LLC.

Description: Request for Waiver of Commission Rules and Request for Waiver of Prior Notice for Certificate of Concurrence for Shared Facilities Agreement of Sierra Solar Greenworks LLC.

Filed Date: 2/18/15.

Accession Number: 20150217-5195.

Comments Due: 5 p.m. ET 3/5/15.

Docket Numbers: ER15-1039-000.

Applicants: Homer City Generation, L.P.

Description: Tariff Cancellation per 35.17(a): Withdrawal of Homer City Generation Filing in ER15-1039 to be effective N/A.

Filed Date: 2/18/15.

Accession Number: 20150217-5077.

Comments Due: 5 p.m. ET 3/10/15.

Docket Numbers: ER15-1050-000.

Applicants: ISO New England Inc.

Description: § 205(d) rate filing per 35.13(a)(2)(iii): Rev. to Address Treatment of ETU (Part 1 of 2) to be effective 2/16/2015.

Filed Date: 2/13/15.

Accession Number: 20150213-5310.

Comments Due: 5 p.m. ET 3/6/15.

Docket Numbers: ER15-1051-000.

Applicants: ISO New England Inc.

Description: § 205(d) rate filing per 35.13(a)(2)(iii): Rev. to Address the Treatment of ETU (Part 2 of 2) to be effective 2/16/2015.

Filed Date: 2/13/15.

Accession Number: 20150213-5317.

Comments Due: 5 p.m. ET 3/6/15.

Docket Numbers: ER15-1052-000.

Applicants: Transource Missouri, LLC.

Description: § 205(d) rate filing per 35.13(a)(2)(iii): TMO Facilities Sharing Agreement Concurrence to be effective 4/15/2015.

Filed Date: 2/13/15.

Accession Number: 20150213-5324.

Comments Due: 5 p.m. ET 3/6/15.

Docket Numbers: ER15-1053-000.

Applicants: Wisconsin Power and Light Company.

Description: Compliance filing per 35: Amended Wisconsin Dells PSA to be effective 2/12/2015.

Filed Date: 2/18/15.

Accession Number: 20150217-5073.

Comments Due: 5 p.m. ET 3/10/15.

Docket Numbers: ER15-1054-000.

Applicants: Central Maine Power Company.

Description: Notice of Termination of Interconnection Agreement No. 108 of Central Maine Power Company.

Filed Date: 2/13/15.

Accession Number: 20150213-5334.

Comments Due: 5 p.m. ET 3/6/15.

Docket Numbers: ER15-1055-000.

Applicants: AEP Texas Central Company.

Description: § 205(d) rate filing per 35.13(a)(2)(iii): TCC-Patriot Wind Farm IA Amendment to be effective 2/9/2015.

Filed Date: 2/18/15.

Accession Number: 20150218-5017.

Comments Due: 5 p.m. ET 3/11/15.

Docket Numbers: ER15-1056-000.

Applicants: Cassadaga Wind LLC.

Description: Petition of Cassadaga Wind LLC for Limited Waiver.

Filed Date: 2/13/15.

Accession Number: 20150213-5349.

Comments Due: 5 p.m. ET 2/27/15.

Docket Numbers: ER15-1057-000.

Applicants: AEP Texas North Company.

Description: § 205(d) rate filing per 35.13(a)(2)(iii): TNC-Buckthorn Westex Interconnection Agreement to be effective 1/26/2015.

Filed Date: 2/18/15.

Accession Number: 20150218-5019.

Comments Due: 5 p.m. ET 3/11/15.

Docket Numbers: ER15-1058-000.

Applicants: Southern California Edison Company.

Description: § 205(d) rate filing per 35.13(a)(2)(iii): Amended LGIA NextEra Desert Center Blythe, LLC to be effective 2/19/2015.

Filed Date: 2/18/15.

Accession Number: 20150218-5040.

Comments Due: 5 p.m. ET 3/11/15.

Docket Numbers: ER15-1059-000.

Applicants: Wisconsin Electric Power Company.

Description: Notice of Cancellation Service Agreement No. 58 of Wisconsin Electric Power Company.

Filed Date: 2/18/15.

Accession Number: 20150218-5133.

Comments Due: 5 p.m. ET 3/11/15.

Docket Numbers: ER15-1060-000.

Applicants: Arizona Public Service Company.

Description: § 205(d) rate filing per 35.13(a)(2)(iii): Rate Schedule Nos. 242 and 243 Certificate of Concurrence to be effective 11/1/2014.

Filed Date: 2/18/15.

Accession Number: 20150218-5145.

Comments Due: 5 p.m. ET 3/11/15.

Docket Numbers: ER15-1061-000.

Applicants: New York Independent System Operator, Inc.

Description: § 205(d) rate filing per 35.13(a)(2)(iii): 205—Ancillary Service Demand Curves; Transmission Shortage Cost to be effective 12/31/9998.

Filed Date: 2/18/15.

Accession Number: 20150218-5152.

Comments Due: 5 p.m. ET 3/11/15.

Docket Numbers: ER15-1062-000.

Applicants: PacifiCorp.

Description: § 205(d) rate filing per 35.13(a)(2)(iii): BPA AC Intertie Agreement 13th Revised to be effective 4/20/2015.

Filed Date: 2/18/15.

Accession Number: 20150218-5184.

Comments Due: 5 p.m. ET 3/11/15.

Docket Numbers: ER15-1063-000.

Applicants: Northern States Power Company, a Minnesota corporation.

Description: § 205(d) rate filing per 35.13(a)(2)(iii): 2015-2-18_GRE-Multi-Pty JPZ Agrmt_304-NSP-0.2.0 to be effective 9/1/2014.

Filed Date: 2/18/15.

Accession Number: 20150218-5191.

Comments Due: 5 p.m. ET 3/11/15.

Docket Numbers: ER15-1064-000.

Applicants: California Clean Power Corp.

Description: Initial rate filing per 35.12 California Clean Power Corp. Initial Market-Based Rate Tariff to be effective 4/20/2015.

Filed Date: 2/18/15.

Accession Number: 20150218-5214.

Comments Due: 5 p.m. ET 3/11/15.

Docket Numbers: ER15-1065-000.

Applicants: Balko Wind, LLC.

Description: Initial rate filing per 35.12 Balko Wind, LLC—MBR Tariff to be effective 2/18/2015.

Filed Date: 2/18/15.

Accession Number: 20150218-5215.

Comments Due: 5 p.m. ET 3/11/15.

Docket Numbers: ER15-1066-000.

Applicants: Red Horse Wind 2, LLC.

Description: Initial rate filing per 35.12 Red Horse 2, LLC—MBR Tariff to be effective 2/18/2015.

Filed Date: 2/18/15.

Accession Number: 20150218-5263.

Comments Due: 5 p.m. ET 3/11/15.

Docket Numbers: ER15-1067-000.

Applicants: Midcontinent Independent System Operator, Inc.

Description: § 205(d) rate filing per 35.13(a)(2)(iii): 2015-02-18_MMTG RTO Adder Filing to be effective 1/6/2015.

Filed Date: 2/18/15.

Accession Number: 20150218-5273.

Comments Due: 5 p.m. ET 3/11/15.

Take notice that the Commission received the following qualifying facility filings:

Docket Numbers: QF15-440-000.

Applicants: Grossmont Hospital Corporation.

Description: Form 556 of Grossmont Hospital Corporation.

Filed Date: 2/13/15.

Accession Number: 20150213-5351.

Comments Due: None Applicable.

Take notice that the Commission received the following PURPA 210(m)(3) filings:

Docket Numbers: RR15-6-000.

Applicants: North American Electric Reliability Corporation.

Description: Request of North American Electric Reliability Corporation to Revise Certain “Metrics” Components for Its Annual Business Plan and Budget Filings and Its Annual Actual Cost-to-Budget True-up Filings.

Filed Date: 2/18/15.

Accession Number: 20150218-5205.

Comments Due: 5 p.m. ET 3/11/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 18, 2015.
Nathaniel J. Davis, Sr.,
Deputy Secretary.

[FR Doc. 2015-03743 Filed 2-23-15; 8:45 am]

BILLING CODE 6717-01-P